DEPARTMENT OF TRANSPORTATION

Surface Transportation Board

[STB Finance Docket No. 33917]

Canton Railroad Company—Trackage Rights Exemption—Norfolk Southern Railway Company

Norfolk Southern Railway Company (NS) has agreed to grant overhead trackage rights to Canton Railroad Company (CTN) over approximately 150 feet of NS' track within its existing right-of-way, being four crossover tracks located between Stations 74+40 and 178+73, on the Southern Bear Creek Branch, and connecting CTN's East Main and West Main, in Baltimore City, MD.¹

¹ A redacted version of the trackage rights agreement between NS and CTN was filed with the notice of exemption. The full version of the agreement, as required by 49 CFR 1180.6(a)(7)(ii), was concurrently filed under seal along with a motion for a protective order. A protective order was served on August 30, 2000.

CTN reported that it intends to consummate the transaction on September 1, 2000, or as soon thereafter as the parties may agree or notices to labor may be effective.

The purpose of the trackage rights is to permit CTN to facilitate a more efficient operation of a coal exporting facility served by NS in Baltimore. CTN states that it currently operates over NS' right-of-way at this location pursuant to local operating agreements relating to the yard operations of both railroads. The trackage rights will also allow rail traffic to move more expeditiously in the eastern Maryland region.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33917, must be filed with the Surface Transportation Board, Office of the Secretary, Case Control Unit, 1925 K Street, NW., Washington, DC 20423-0001. In addition, one copy of each pleading must be served on Weston A. Park, P.O. Box 28364, 8424 Old Harford Road, Baltimore, MD 21234.

Board decisions and notices are available on our website at “WWW.STB.DOT.GOV.”

Decided: August 31, 2000.
By the Board, David M. Konschnik, Director, Office of Proceedings.
Vernon A. Williams,
Secretary.

[FR Doc. 00-22981 Filed 9-6-00; 8:45 am]

BILLING CODE 4915-00-P